DEPARTMENT OF COMMERCE

National Oceanic and Atmospheric Administration

RIN 0648-XA693

Fisheries of the South Atlantic; South Atlantic Fishery Management Council; Public Meeting

AGENCY: National Marine Fisheries Service (NMFS), National Oceanic and Atmospheric Administration (NOAA), Commerce.

ACTION: Notice of a public meeting.

SUMMARY: The South Atlantic Fishery Management Council will hold a meeting of its Snapper Grouper Advisory Panel (AP) in Charleston, SC.

DATES: The meeting will take place October 5-6, 2011. See SUPPLEMENTARY INFORMATION.

ADDRESSES: The meeting will be held at the Charleston Marriott Hotel, 170 Lockwood Blvd., Charleston, SC 29403; telephone: (800) 968-3569; fax: (843) 723-0276.

FOR FURTHER INFORMATION CONTACT: Kim Iverson, Public Information Officer, South Atlantic Fishery Management Council, 4055 Faber Place Drive, Suite 201, N. Charleston, SC 29405; telephone: (843) 571-4366 or toll free (866) SAFMC-10; fax: (843) 769-4520; e-mail: kim.iverson@safmc.net.

SUPPLEMENTARY INFORMATION: Members of the Snapper Grouper AP will meet from 9 a.m. on October 5, 2011 until 5:30 p.m. on October 6, 2011.

Issues to be addressed at the meeting include updates on the following amendments: the Comprehensive Annual Catch Limit (ACL) Amendment; Amendments 18A and 18B addressing management of black sea bass and golden tilefish, respectively; Amendment 24 regarding the rebuilding of red grouper stocks; and Amendment 20A, addressing changes to the wreckfish Individual Transferable Quota (ITQ) Program. An update will also be given on the removal of the 240-foot (40-fathom) closure (Regulatory Amendment 11) and the new Marine Recreational Information Program (MRIP) methodology to estimate recreational catches. Issues to include in Comprehensive Ecosystem-Based Amendment 3 will also be discussed, including approaches to minimize bycatch mortality of speckled hind and warsaw grouper and possible ways to evaluate impacts from the commercial wreckfish fishery and recreational deep-dropping on bottom habitat. The AP will give input on red porgy and vermilion snapper stocks and provide recommendations to the Council.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

This meeting is physically accessible to people with disabilities. Requests for auxiliary aids should be directed to the Council office (see ADDRESSES) 3 days prior to the meeting.

Note: The times and sequence specified in this agenda are subject to change.

Dated: September 6, 2011.
Tracey L. Thompson,
Acting Director, Office of Sustainable Fisheries, National Marine Fisheries Service.

[FR Doc. 2011-23150 Filed 9-9-11; 8:45 am]

BILLING CODE 3510-22-P